OCCUPATIONAL SAFETY AND HEALTH REVIEW COMMISSION

29 CFR Part 2200

Revisions to Procedural Rules Governing Practice Before the Occupational Safety and Health Review Commission

AGENCY: Occupational Safety and Health Review Commission.

ACTION: Advance notice of proposed rulemaking; extension of comment period.

SUMMARY: On September 7, 2018, the Occupational Safety and Health Review Commission solicited recommendations for amendments to the Commission's rules of procedure. The comment period, which was set to expire on October 9, 2018, has been extended to November 16, 2018.

DATES: The comment period for the advance notice of proposed rulemaking (83 FR 45366) is extended. Submit comments on or before November 16, 2018.

ADDRESSES: You may submit comments by any of the following methods:

• Email: rbailey@oshrc.gov. Include “Advance notice of proposed rulemaking, 29 CFR part 2200” in the subject line of the message.

• Fax: 202-606-5417.

• Mail: One Lafayette Centre, 1120 20th Street NW, Ninth Floor, Washington, DC 20036-3457.

• Hand Delivery/Courier: same as mailing address.

Instructions: All submissions must include your name, return address, and email address, if applicable. Please clearly label submissions as “Advance notice of proposed rulemaking, 29 CFR part 2200.”

FOR FURTHER INFORMATION CONTACT: Ron Bailey, via telephone at 202-606-5410, or via email at rbailey@oshrc.gov.

SUPPLEMENTARY INFORMATION: A request was received by the Commission asking that the comment period for the advance notice of proposed rulemaking (ANPRM) be extended to allow “extra time . . . to coordinate a response to the [notice] among various labor unions and employee advocacy groups.” To make the ANPRM comment process as inclusive as possible, the Commission has extended the comment period for the ANPRM (83 FR 45366) to November 16, 2018.

Dated: September 18, 2018.
Heather L. MacDougall,
Chairman.

[FR Doc. 2018-20859 Filed 9-25-18; 8:45 am]

BILLING CODE 7600-01-P